NATIONAL AERONAUTICS AND SPACE ADMINISTRATION

[Notice 04-098]

Notice of Prospective Patent License

AGENCY: National Aeronautics and Space Administration.

ACTION: Notice of Prospective Patent License.

SUMMARY: NASA hereby gives notice that Face International Corporation, 427 West 35th Street, Norfolk, VA 23502, has applied for an exclusive license to practice the invention described in NASA Case Numbers LAR 15348-1-CA, LAR 15348-1-DE, LAR 15348-1-FR, LAR 15348-1-GB, LAR 15348-1-JP, LAR 15348-2-GB, LAR 15348-2-IT, LAR 15348-2-FR, and LAR 15348-2-DE all of which are entitled “Thin Layer Composite Unimorph Ferroelectric Driver and Sensor,” which are assigned to the United States of America as represented by the Administrator of the National Aeronautics and Space Administration. Written objections to the prospective grant of a license should be sent to NASA Langley Research Center. NASA has not yet made a determination to grant the requested license and may deny the requested license even if no objections are submitted within the comment period.

DATES: Responses to this notice must be received by August 31, 2004.

FOR FURTHER INFORMATION CONTACT: Barry V. Gibbens, Patent Attorney, Mail Stop 212, NASA Langley Research Center, Hampton, VA 23681-2199, (757) 864-7141; Fax (757) 864-9190.

Dated: August 6, 2004.
Keith T. Sefton,
Deputy General Counsel, Administration and Management.

[FR Doc. 04-18596 Filed 8-13-04; 8:45 am]

BILLING CODE 7510-01-P